ENVIRONMENTAL PROTECTION AGENCY

[EPA-HQ-OPP-2013-0287; FRL-9905-86-OEI]

Information Collection Request Submitted to OMB for Review and Approval; Comment Request; Pesticide Registration Fees Program

AGENCY: Environmental Protection Agency (EPA).

ACTION: Notice.

SUMMARY: EPA has submitted the following Information Collection Request (ICR) to the Office of Management and Budget (OMB) for review and approval in accordance with the Paperwork Reduction Act: “Pesticide Registration Fees Program” (EPA ICR No. 2330.02, OMB Control No. 2070-0179). This is a request to renew an existing collection. The ICR, which is abstracted below, describes the nature of the information collection activity and its expected burden and costs. Copies of the ICR and related documents are available in the docket.

DATES: Additional comments may be submitted on or before February 28, 2014.

ADDRESSES: Submit your comments, referencing Docket ID Number EPA-HQ-OPP-2013-0287, to (1) EPA online using www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

The docket can be viewed online at www.regulations.gov or in person at the EPA Docket Center, WJC West, Room 3334, 1301 Constitution Ave. NW., Washington, DC. The telephone number for the Docket Center is 202-566-1744. For additional information about EPA's public docket, visit http://www.epa.gov/dockets.

FOR FURTHER INFORMATION CONTACT: Cameo G. Smoot, Field and External Affairs Division (7506P), Office of Pesticide Programs, Environmental Protection Agency, 1200 Pennsylvania Ave. NW., Washington, DC 20460; telephone number: (703) 305-5454; fax number: (703) 305-5884; email address: smoot.cameo @epa.gov.

SUPPLEMENTARY INFORMATION: EPA submitted the following ICR to OMB for review and approval in accordance with the Paperwork Reduction Act (44 U.S.C. 3501 et seq.), and the procedures in 5 CFR 1320.12. Prior Public Notice: Pursuant to 5 CFR 1320.8(d), EPA announced and provided a 60-day public comment period on the information collection activities as described in this ICR (78 FR 36774, June 19, 2013). EPA received two public comments which are posted in the docket EPA-HQ-OPP-2013-0287 for this action. This notice allows for an additional 30 days for public comments.

ICR Status: This is a renewal for a currently approved ICR. This ICR is currently scheduled to expire on February 28, 2014. Under the PRA, an Agency may not conduct or sponsor and a person is not required to respond to a collection of information unless it displays a currently valid OMB control number. The OMB control numbers for EPA's regulations in title 40 of the CFR, after appearing in the Federal Register, are listed in 40 CFR part 9 and are included on the related collection instrument or form, if applicable.

Abstract: Pesticide registrants are required by statute to pay an annual registration maintenance fee for all products registered under Section 3 and Section 24(c) of the Federal Insecticide, Fungicide and Rodenticide Act (FIFRA). In addition, the Pesticide Registration Improvement Act (PRIA) amended FIFRA in 2004 to create a registration service fee system for applications for specific pesticide registration, amended registration, and associated tolerance actions (Section 33). This ICR specifically covers the activities related to the collection of the annual registration maintenance fees, the registration service fees and the burden associated with the submission of requests for fees to be waived.

Form Numbers: EPA Form 8570-30—Pesticide Registration Fee Filing Form.

Respondents/affected entities: Entities potentially affected by this ICR are pesticide and other agricultural chemical manufacturers, other basic inorganic chemical manufacturers, other basic organic chemical manufacturers, and regulators of agricultural marketing commodities.

Respondent's obligation to respond: Responses to this collection of information are required to obtain or retain a benefit (i.e., registration of a pesticide).

Estimated number of respondents: 1744

Frequency of response: Annual and on occasion.

Total estimated annual burden: 7,907 hours. Burden is defined at 5 CFR 1320.3(b).

Total estimated annual cost: $535,728 For both programs.

Changes in the Estimates: The total annual respondent burden increased by 342 hours for the Pesticide Product Maintenance fees program and also increased 303 hours for the Pesticide Registration Service Fee waivers compared with that identified in the ICR currently approved by OMB. This increase reflects a slight increase in the number of requests submitted to the agency. This change is an adjustment.

John Moses,
Director, Collection Strategies Division.

[FR Doc. 2014-01665 Filed 1-28-14; 8:45 am]

BILLING CODE 6560-50-P